DEPARTMENT OF THE TREASURY

Secret Service

Appointment of Performance Review Board (PRB) Members

This notice announces the appointment of members of Senior Executive Service Performance Review Boards in accordance with 5 U.S.C. 4314(c)(4) for the rating period beginning October 1, 1999, and ending September 30, 2000. Each PRB will be composed of at least three of the Senior Executive Service members listed below.

Name and Title

Kevin T. Foley— Deputy Director, U.S. Secret Service

James E. Bauer— Assistant Director, Investigations (USSS)

Carlton D. Spriggs— Assistant Director, Protective Operations (USSS)

Barbara S. Riggs— Assistant Director, Protective Research (USSS)

Dana A. Brown— Assistant Director, Administration (USSS)

Gordan S. Heddell— Assistant Director, Inspection (USSS)

Larry L. Cockell— Assistant Director, Training (USSS)

John J. Kelleher— Chief Counsel, (USSS)

FOR FURTHER INFORMATION CONTACT: Sheila M. Lumsden, Chief, Personnel Division, 950 H St., NW., Suite 7400, Washington, DC 20373, Telephone No. (202) 406-5635.

Brian Stafford,
Director.

[FR Doc. 00-22467 Filed 8-31-00; 8:45 am]

BILLING CODE 4810-42-M